FEDERAL RESERVE SYSTEM

Notice of Proposals to Engage in Permissible Nonbanking Activities or to Acquire Companies That Are Engaged in Permissible Nonbanking Activities

The companies listed in this notice have given notice under section 4 of the Bank Holding Company Act (12 U.S.C. 1843) (BHC Act) and Regulation Y, (12 CFR Part 225) to engage de novo, or to acquire or control voting securities or assets of a company, including the companies listed below, that engages either directly or through a subsidiary or other company, in a nonbanking activity that is listed in § 225.28 of Regulation Y (12 CFR 225.28) or that the Board has determined by Order to be closely related to banking and permissible for bank holding companies. Unless otherwise noted, these activities will be conducted throughout the United States.

Each notice is available for inspection at the Federal Reserve Bank indicated. The notice also will be available for inspection at the offices of the Board of Governors. Interested persons may express their views in writing on the question whether the proposal complies with the standards of section 4 of the BHC Act. Additional information on all bank holding companies may be obtained from the National Information Center website at www.ffiec.gov/nic/.

Unless otherwise noted, comments regarding the applications must be received at the Reserve Bank indicated or the offices of the Board of Governors not later than November 7, 2000.

A. Federal Reserve Bank of New York (Betsy Buttrill White, Senior Vice President) 33 Liberty Street, New York, New York 10045-0001:

1. Dresdner Bank Aktiengesellschaft, Frankfurt, Germany; to acquire indirectly all the voting shares of Wasserstein Perella Group, Inc, New York, New York, and its subsidiaries, including Wasserstein Perella & Co., Inc., New York, New York, and thereby engage in financial and investment advisory activities, including among other things providing advice in connection with mergers, acquisitions, divestitures, investments, joint ventures, leveraged buyouts, recapitalizations, capital structuring, financing transactions, and similar transactions, and conducting financial feasibility studies, pursuant to § 225.28(b)(6) of Regulation Y; and Wasserstein Perella Securities, Inc., New York, New York, a registered broker-dealer, and thereby engage in underwriting and dealing in, to a limited extent, all types of debt and equity securities (other than ownership interests in open-end investment companies) both in the United States and globally, see Travelers Group, Inc., 84 Fed. Res. Bull. 985 (September 1998); Fleet Financial Group, Inc., 84 Fed. Res. Bull. 227 (March 1998); SunTrust Banks, Inc., 84 Fed. Res. Bull. 126 (February 1998); First Union Corporation, 84 Fed. Res. Bull. 59 (January 1998); Canadian Imperial Bank of Commerce, 83 Fed. Res. Bull. 1008 (December 1997); BankBoston Corporation, 84 Fed. Res. Bull. 850 (1998); BankAmerica Corporation, 83 Fed. Res. Bull. 913 (November 1997); BB&T Corporation, 83 Fed. Res. Bull. 919 (November 1997); KeyCorp, 83 Fed. Res. Bull. 921 (November 1997); NationsBank Corporation, 83 Fed. Res. Bull. 924 (November 1997); Swiss Bank Corporation, 83 Fed. Res. Bull. 786 (September 1997); First Chicago NBD Corporation, 83 Fed. Res. Bull. 784 (September 1997); Bankers Trust New York Corporation, 83 Fed. Res. Bull. 780 (September 1997); and in the following listed nonbanking activities both in the United States and globally (with the revenues derived from these activities considered to be eligible revenues); extending credit and servicing loans, pursuant to § 225.28(b)(1) of Regulation Y; acquiring debt that is in default at the time of acquisition, pursuant to § 225.28(b)(2)(vii) of Regulation Y; providing financial and investment advice, pursuant to § 225.28(b)(6) of Regulation Y; providing securities brokerage services as agent for customers, pursuant to § 225.28(b)(7)(i) of Regulation Y; buying and selling in the secondary market all types of securities on the order of customers as a riskless principal, pursuant to § 225.28(b)(7)(ii) of Regulation Y; acting as agent for the private placement of securities, pursuant to § 225.28(b)(7)(iii) of Regulation Y; and buying and selling permissible derivatives contracts as principal, pursuant to § 225.28(b)(8)(ii) of Regulation Y.

Board of Governors of the Federal Reserve System, October 18, 2000.
Robert deV. Frierson,
Associate Secretary of the Board.

[FR Doc. 00-27194 Filed 10-23-00; 8:45 am]

BILLING CODE 6210-01-P